DEPARTMENT OF HOMELAND SECURITY

Federal Emergency Management Agency

[Docket ID FEMA-2019-0002]

Changes in Flood Hazard Determinations

AGENCY: Federal Emergency Management Agency, DHS.

ACTION: Notice.

SUMMARY: New or modified Base(1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-1928). | Unincorporated areas of Madison County (19-04-1087P). | The Honorable Dale W. Strong, Chairman, Madison County Commission, 100 North Side Square, Huntsville, AL 35801. | Engineering Department, 100 Hughes Road, Madison, AL 35758. | July 29, 2019 | 010151
Russell (FEMA Docket No.: B-1928). | City of Phenix City (17-04-3686P). | The Honorable Eddie N. Lowe, Mayor, City of Phenix City, 1206 7th Avenue, Phenix City, AL 36867. | Engineering and Public Works Department, 1206 7th Avenue, Phenix City, AL 36867. | July 5, 2019 | 010184
Tuscaloosa (FEMA Docket No.: B-1924). | City of Northport (18-04-7201P). | The Honorable Donna Aaron, Mayor, City of Northport, 3500 McFarland Boulevard, Northport, AL 35476. | Planning and Inspections Department, 3500 McFarland Boulevard, Northport, AL 35476. | July 9, 2019 | 010202
Tuscaloosa (FEMA Docket No.: B-1924). | Unincorporated areas of Tuscaloosa County (18-04-7201P). | The Honorable Ward D. Robertson, III, Probate Judge, Tuscaloosa County, 714 Greensboro Avenue, Tuscaloosa, AL 35401. | Tuscaloosa County Public Works Department, 2810 35th Street, Tuscaloosa, AL 35401. | July 9, 2019 | 010201
California: Orange (FEMA Docket No.: B-1924). | City of Irvine (18-09-2376P). | Mr. John Russo, City of Irvine Manager, 1 Civic Center Plaza, Irvine, CA 92606. | Department of Public Works, 1 Civic Center Plaza, Irvine, CA 92606. | July 12, 2019 | 060222
Colorado:
Arapahoe (FEMA Docket No.: B-1924). | City of Centennial (18-08-1262P). | The Honorable Stephanie Piko, Mayor, City of Centennial, 13133 East Arapahoe Road, Centennial, CO 80112. | Southeast Metro Stormwater Authority, 7437 South Fairplay Street, Centennial, CO 80112. | July 5, 2019 | 080315
Garfield (FEMA Docket No.: B-1924). | Town of Parachute (18-08-1058P). | The Honorable Roy McClung, Mayor, Town of Parachute, 222 Grand Valley Way, Parachute, CO 81635. | Town Hall, 222 Grand Valley Way, Parachute, CO 81635. | June 20, 2019 | 080215
Garfield (FEMA Docket No.: B-1924). | Unincorporated areas of Garfield County (18-08-1058P). | The Honorable John Martin, Chairman, Garfield County Board of Commissioners, 108 8th Street, Suite 101, Glenwood Springs, CO 81601. | Garfield County Administration Building, 108 8th Street, Glenwood Springs, CO 81601. | June 20, 2019 | 080205
Jefferson (FEMA Docket No.: B-1924). | Unincorporated areas of Jefferson County (18-08-0795P). | The Honorable Libby Szabo, Chair, Jefferson County Board of Commissioners, 100 Jefferson County Parkway, Golden, CO 80419. | Jefferson County Planning and Zoning Division, 100 Jefferson County Parkway, Golden, CO 80419. | July 12, 2019 | 080087
Summit (FEMA Docket No.: B-1931). | Town of Breckenridge (18-08-0752P). | The Honorable Eric Mamula, Mayor, Town of Breckenridge, P.O. Box 168, Breckenridge, CO 80424. | Public Works Department, 1095 Airport Road, Breckenridge, CO 80424. | July 18, 2019 | 080172
Summit (FEMA Docket No.: B-1931). | Unincorporated areas of Summit County (18-08-0752P). | The Honorable Thomas C. Davidson, Commissioner, Summit County Board of Commissioners, P.O. Box 68, Breckenridge, CO 80424. | Summit County Commons, 0037 Peak One Drive, Frisco, CO 80442. | July 18, 2019 | 080290
Delaware: Sussex (FEMA Docket No.: B-1924). | Unincorporated areas of Sussex County (18-03-1948P). | The Honorable Michael H. Vincent, President, Sussex County Council, P.O. Box 589, Georgetown, DE 19947. | Sussex County Planning and Zoning Department, #2 The Circle, Georgetown, DE 19947. | July 19, 2019 | 100029
Florida:
Charlotte (FEMA Docket No.: B-1924). | Unincorporated areas of Charlotte County (18-04-6799P). | The Honorable Ken Doherty, Chairman, Charlotte County Board of Commissioners, 18500 Murdock Circle, Suite 536, Port Charlotte, FL 33948. | Charlotte County Community Development Department, 18400 Murdock Circle, Port Charlotte, FL 33948. | July 5, 2019 | 120061
Clay (FEMA Docket No.: B-1924). | Unincorporated areas of Clay County (18-04-6869P). | The Honorable Mike Cella, Chairman, Clay County Board of Commissioners, P.O. Box 1366, Green Cove Springs, FL 32043. | Clay County Zoning Department, 477 Houston Street, Green Cove Springs, FL 32043. | July 9, 2019 | 120064
Lee (FEMA Docket No.: B-1924). | Town of Fort Myers Beach (19-04-1243P). | The Honorable Tracey Gore, Mayor, Town of Fort Myers Beach, 2525 Estero Boulevard, Fort Myers Beach, FL 33931. | Community Development Department, 2525 Estero Boulevard, Fort Myers Beach, FL 33931. | July 18, 2019 | 120673
Marion (FEMA Docket No.: B-1924). | Unincorporated areas of Marion County (18-04-6729P). | The Honorable Michelle Stone, Chair, Marion County Board of Commissioners, 601 Southeast 25th Avenue, Ocala, FL 34471. | Marion County Public Works Department, 601 Southeast 25th Avenue, Ocala, FL 34471. | July 9, 2019 | 120160
Miami-Dade (FEMA Docket No.: B-1924). | City of Miami (19-04-1242P). | The Honorable Francis X. Suarez, Mayor, City of Miami, 3500 Pan American Drive, Miami, FL 33133. | Building Department, 444 Southwest 2nd Avenue, 4th Floor, Miami, FL 33130. | July 18, 2019 | 120650
Monroe (FEMA Docket No.: B-1928). | Unincorporated areas of Monroe County (19-04-1616P). | The Honorable Sylvia Murphy, Mayor, Monroe County Board of Commissioners, 102050 Overseas Highway, Suite 234, Key Largo, FL 33037. | Monroe County Building Department, 2798 Overseas Highway, Suite 300, Marathon, FL 33050. | July 22, 2019 | 125129
Orange (FEMA Docket No.: B-1917). | Unincorporated areas of Orange County (18-04-6487P). | The Honorable Teresa Jacobs, Mayor, Orange County, 201 South Rosalind Avenue, 5th Floor, Orlando, FL 32801. | Orange County Stormwater Division, 4200 South John Young Parkway, Orlando, FL 32839. | July 5, 2019 | 120179
Volusia (FEMA Docket No.: B-1924). | City of Deltona (18-04-7217P). | Ms. Jane K. Shang, Manager, City of Deltona, 2345 Providence Boulevard, Deltona, FL 32725. | City Hall, 2345 Providence Boulevard, Deltona, FL 32725. | July 16, 2019 | 120677
Georgia:
Liberty (FEMA Docket No.: B-1935). | City of Flemington (19-04-0357P). | The Honorable Paul Hawkins, Mayor, City of Flemington, 156 Old Sunbury Road, Flemington, GA 31313. | Liberty Consolidated Planning Commission, 100 Main Street, Suite 7520, Hinesville, GA 31313. | July 18, 2019 | 130124
Liberty (FEMA Docket No.: B-1935). | Unincorporated areas of Liberty County (19-04-0357P). | The Honorable Donald Lovette, Chairman, Liberty County Board of Commissioners, 112 North Main Street, Hinesville, GA 31313. | Liberty County Building and Licensing Department, 112 North Main Street, Hinesville, GA 31313. | July 18, 2019 | 130123
Muscogee (FEMA Docket No.: B-1928). | Columbus Consolidated Government (17-04-3686P). | The Honorable Teresa Tomlinson, Mayor, City of Columbus, 100 East 10th Street, Columbus, GA 31901. | Stormwater Division, 420 10th Street, Columbus, GA 31901. | July 5, 2019 | 135158
Maryland: Prince George's (FEMA Docket No.: B-1924). | Unincorporated areas of Prince George's County (18-03-1633P). | The Honorable Angela D. Alsobrooks, Prince George's County Executive, 1301 McCormick Drive, Suite 4000, Largo, MD 20774. | Prince George's County Inglewood Center II, 1801 McCormick Drive, Suite 500, Largo, MD 20774. | July 19, 2019 | 245208
North Carolina: Wake (FEMA Docket No.: B-1916). | Town of Apex (18-04-6277P). | The Honorable Lance Olive, Mayor, Town of Apex, P.O. Box 250, Apex, NC 27502. | Engineering Department, 73 Hunter Street, Apex, NC 27502. | July 16, 2019 | 370467
Pennsylvania:
Beaver (FEMA Docket No.: B-1928). | Borough of Big Beaver (19-03-0284P). | The Honorable Don Wachter, Mayor, Borough of Big Beaver, 114 Forest Drive, Darlington, PA 16115. | Zoning and Code Enforcement Department, 114 Forest Drive, Darlington, PA 16115. | July 15, 2019 | 422307
Beaver (FEMA Docket No.: B-1928). | Township of Darlington (19-03-0284P). | The Honorable Chad Crawford, Mayor, Township of Darlington Board of Supervisors, 3590 Darlington Road, Darlington, PA 16115. | Zoning and Code Enforcement Department, 3590 Darlington Road, Darlington, PA 16115. | July 15, 2019 | 422312
Bedford (FEMA Docket No.: B-1924). | Borough of Hyndman (18-03-1776P). | The Honorable Newton Huffman, Mayor, Borough of Hyndman, P.O. Box 74, Hyndman, PA 15545. | Borough Hall, 3945 Center Street, Suite 2, Hyndman, PA 15545. | July 1, 2019 | 420021
Bedford (FEMA Docket No.: B-1924). | Township of Londonderry (18-03-1776P). | The Honorable Stephen Stouffer, Chairman, Township of Londonderry Board of Supervisors, P.O. Box 215, Hyndman, PA 15545. | Township Hall, 4303 Hyndman Road, Hyndman, PA 15545. | July 1, 2019 | 421345
Montgomery (FEMA Docket No.: B-1917). | Borough of Ambler (18-03-1837P). | The Honorable Frank DeRuosi, President, Borough of Ambler Council, 131 Rosemary Avenue, Ambler, PA 19002. | Borough Hall, 131 Rosemary Avenue, Ambler, PA 19002. | July 8, 2019 | 420947
Montgomery (FEMA Docket No.: B-1917). | Township of Upper Dublin (18-03-1837P). | The Honorable Ira S. Tackel, President, Township of Upper Dublin Board of Commissioners, 801 Loch Alsh Avenue, Fort Washington, PA 19034. | Township Hall, 801 Loch Alsh Avenue, Fort Washington, PA 19034. | July 8, 2019 | 420708
Texas:
Bexar (FEMA Docket No.: B-1935). | City of San Antonio (18-06-3896P). | The Honorable Ron Nirenberg, Mayor, City of San Antonio, P.O. Box 839966, San Antonio, TX 78283. | Transportation and Capitol Improvements Department, Storm Water Division, 1901 South Alamo Street, 2nd Floor, San Antonio, TX 78204. | July 22, 2019 | 480045
Bexar (FEMA Docket No.: B-1935). | Unincorporated areas of Bexar County (18-06-2879P). | The Honorable Nelson W. Wolff, Bexar County Judge, 101 West Nueva Street, 10th Floor, San Antonio, TX 78205. | Bexar County Public Works Department, 233 North Pecos-La Trinidad Street, Suite 420, San Antonio, TX 78207. | July 22, 2019 | 480035
Bexar (FEMA Docket No.: B-1935). | Unincorporated areas of Bexar County (18-06-3896P). | The Honorable Nelson W. Wolff, Bexar County Judge, 101 West Nueva Street, 10th Floor, San Antonio, TX 78205. | Bexar County Public Works Department, 233 North Pecos-La Trinidad Street, Suite 420, San Antonio, TX 78207. | July 22, 2019 | 480035
Collin (FEMA Docket No.: B-1924). | City of Allen (19-06-0043P). | Mr. Peter H. Vargas, Manager, City of Allen, 305 Century Parkway, Allen, TX 75013. | Engineering and Traffic Department, 305 Century Parkway, Allen, TX 75013. | July 19, 2019 | 480131
Collin (FEMA Docket No.: B-1928). | City of Celina (18-06-2512P). | The Honorable Sean Terry, Mayor, City of Celina, 142 North Ohio Street, Celina, TX 75009. | Engineering Services Department, 142 North Ohio Street, Celina, TX 75009. | July 15, 2019 | 480133
Collin and Denton (FEMA Docket No.: B-1924). | City of Frisco (19-06-0831P). | The Honorable Jeff Cheney, Mayor, City of Frisco, 6101 Frisco Square Boulevard, Frisco, TX 75034. | Engineering Services Department, 6101 Frisco Square Boulevard, Frisco, TX 75034. | July 22, 2019 | 480134
Collin (FEMA Docket No.: B-1924). | City of Parker (18-06-2161P). | The Honorable Lee Pettle, Mayor, City of Parker, 5700 East Parker Road, Parker, TX 75002. | City Hall, 5700 East Parker Road, Parker, TX 75002. | July 1, 2019 | 480139
Collin (FEMA Docket No.: B-1928). | Town of Fairview (18-06-1879P). | The Honorable Darion Culbertson, Mayor, Town of Fairview, 372 Town Place, Fairview, TX 75069. | Town Hall, 372 Town Place, Fairview, TX 75069. | July 8, 2019 | 481069
Collin (FEMA Docket No.: B-1924). | Unincorporated areas of Collin County (18-06-2161P). | The Honorable Chris Hill, Collin County Judge, 2300 Bloomdale Road, Suite 4192, McKinney, TX 75071. | Collin County Emergency Management Department, 4690 Community Avenue, Suite 200, McKinney, TX 75071. | July 1, 2019 | 480130
Comal (FEMA Docket No.: B-1931). | City of New Braunfels (18-06-3030P). | The Honorable Barron Casteel, Mayor, City of New Braunfels, 550 Landa Street, New Braunfels, TX 78130. | City Hall, 550 Landa Street, New Braunfels, TX 78130. | July 5, 2019 | 485493
Kaufman (FEMA Docket No.: B-1924). | City of Forney (18-06-2436P). | The Honorable Rick Wilson, Mayor, City of Forney, 101 East Main Street, Forney, TX 75126. | City Hall, 101 East Main Street, Forney, TX 75126. | July 19, 2019 | 480410
Parker (FEMA Docket No.: B-1924). | Unincorporated areas of Parker County (18-06-3601P). | The Honorable Pat Deen, Parker County Judge, 1 Courthouse Square, Weatherford, TX 76086. | Parker County Emergency Management Department, 1114 Santa Fe Drive, Weatherford, TX 76086. | July 22, 2019 | 480520
Smith (FEMA Docket No.: B-1924). | Unincorporated areas of Smith County (18-06-2029P). | The Honorable Nathaniel Moran, Smith County Judge, 200 East Ferguson Street, Suite 100, Tyler, TX 75702. | Smith County Road and Bridge Department, 1700 West Claude Street, Tyler, TX 75702. | July 15, 2019 | 481185
Tarrant (FEMA Docket No.: B-1935). | City of Fort Worth (18-06-2091P). | The Honorable Betsy Price, Mayor, City of Fort Worth, 200 Texas Street, Fort Worth, TX 76102. | City Hall, 200 Texas Street, Fort Worth, TX 76102. | July 5, 2019 | 480596
Tarrant (FEMA Docket No.: B-1924). | City of Fort Worth (18-06-3021P). | The Honorable Betsy Price, Mayor, City of Fort Worth, 200 Texas Street, Fort Worth, TX 76102. | City Hall, 200 Texas Street, Fort Worth, TX 76102. | July 15, 2019 | 480596
Tarrant (FEMA Docket No.: B-1924). | City of Haslet (18-06-2131P). | The Honorable Bob Golden, Mayor, City of Haslet, 101 Main Street, Haslet, TX 76052. | Planning and Development Department, 101 Main Street, Haslet, TX 76052. | July 11, 2019 | 480600
Williamson (FEMA Docket No.: B-1931). | Unincorporated areas of Williamson County (19-06-0529P). | The Honorable Bill Gravell, Jr., Williamson County Judge, 710 South Main Street, Suite 101, Georgetown, TX 78626. | Williamson County Engineering Department, 710 South Main Street, Suite 101, Georgetown, TX 78626. | July 22, 2019 | 481079

[FR Doc. 2019-16403 Filed 7-31-19; 8:45 am]

BILLING CODE 9110-12-P